DEPARTMENT OF TRANSPORTATION

National Highway Traffic Safety Administration

[NHTSA Docket No. NHTSA-2011-0003]

National Emergency Medical Services Advisory Council Teleconference Meeting

AGENCY: National Highway Traffic Safety Administration (NHTSA), Department of Transportation (DOT).

Title: National Emergency Medical Services Advisory Council Teleconference Meeting.

ACTION: National Emergency Medical Services Advisory Council (NEMSAC); notice of Teleconference Meeting.

SUMMARY: The NHTSA announces a teleconference meeting of the NEMSAC to be held on February 9, 2011. This notice announces the date, time and call-in information for the meeting, which will be open to the public. The purpose of NEMSAC is to serve as a nationally recognized council of emergency medical services representatives and consumers to provide advice and recommendations regarding Emergency Medical Services (EMS) to the U.S. DOT's NHTSA.

DATES: The teleconference meeting will be held on February 9, 2011 from 2 p.m. to 4 p.m. EST. A public comment period will take place on February 9, 2011 between 3:30 p.m. to 3:45 p.m. EST. Comment Date: Written comments or requests to make oral presentations must be received by February 4, 2011.

ADDRESSES: The meeting will be held via teleconference only. Members of the public who wish to obtain the call-in number, access code, and other information for the teleconference may contact Drew Dawson as listed in the FOR FURTHER INFORMATION CONTACT section by February 4, 2011.

Persons may request time to make an oral presentation. Persons may also submit written comments. Written comments and requests to make oral presentations at the meeting should reach Drew Dawson at the address listed below and must be received by February 4, 2011.

All submissions received must include the docket number, NHTSA-2011-0003, and may be submitted by any one of the following methods: (1) You may submit comments by e-mail to drew.dawson@dot.gov or noah.smith@dot.gov; or (2) you may submit comments by Fax to (202) 366-7149.

An electronic copy of this document may be downloaded from the Federal Register's home page at http://www.archives.gov and the Government Printing Office's database at http://www.access.gpo.gov/nara.

FOR FURTHER INFORMATION CONTACT: Drew Dawson, Director, Office of Emergency Medical Services, National Highway Traffic Safety Administration, 1200 New Jersey Avenue, SE., NTI-140, Washington, DC 20590, Telephone number (202) 366-9966; e-mail Drew.Dawson@dot.gov.

SUPPLEMENTARY INFORMATION: Notice of this meeting is given under the Federal Advisory Committee Act (FACA), Public Law 92-463, as amended (5 U.S.C. App. 1 et seq.) The NEMSAC will hold a meeting on Wednesday February 9, 2011, via teleconference.

Agenda of Council Teleconference Meeting, February 9, 2011

The tentative agenda includes the following:

Wednesday February 9, 2011

(1) Opening Remarks—Chair and Designated Federal Officer.

(2) Introduction of Members and all in attendance.

(3) Overview of Health Care Reform and Emergency Medical Services.

(4) Other Business.

(5) Public Comment Period.

(6) Next Steps and Future Meetings.

While the entire meeting is open to the public, the public comment period will take place on February 9, 2011 between 3:30 and 3:45 p.m. EST.

Public Attendance: The meeting is open to the public. Persons with disabilities who require special assistance should advise Drew Dawson of their anticipated special needs as early as possible. Members of the public who wish to make comments on February 9, 2011 between 3:30 and 3:45 p.m. are requested to register in advance. In order to allow as many people as possible to speak, speakers are requested to limit their remarks to 3 minutes. For those wishing to submit written comments, please follow the procedure noted above.

Individuals wishing to register for attendance in the teleconference must provide their name, affiliation, phone number, and e-mail address to Drew Dawson by e-mail at drew.dawson@dot.gov or by telephone at (202) 366-9966 no later than February 4, 2011. There will be limited call-in lines, so please register early. Pre-registration is necessary to enable proper arrangements. Minutes of the NEMSAC Meeting will be available to the public online at http://www.ems.gov.

Issued on: January 19, 2011.
Michael L. Brown,
Acting Associate Administrator for Research and Program Development.

[FR Doc. 2011-1364 Filed 1-21-11; 8:45 am]

BILLING CODE 4910-59-P